SURFACE TRANSPORTATION BOARD

[Docket No. FD 36299]

Soo Line Railroad Company—Petition for Declaratory Order and Preliminary Injunction—Interchange With Canadian National

By decision served on July 19, 2019, the Board announced that it will hold oral argument to address the issues presented in this proceeding. The oral argument will be held on Tuesday, August 6, 2019, at 10:00 a.m., in the James E. Webb Memorial Auditorium of the National Aeronautics and Space Administration (NASA), located at 300 E Street SW, Washington, DC, across the street from the Board's headquarters building. The oral argument will be open for public observation, but only counsel and designated representatives for the parties, as discussed below, will be permitted to participate.

CP and CN will each have 20 minutes of argument time. The Village of Bartlett filed a notice of intent to participate on July 26, 2019, and requested 10 minutes of argument time, which will be granted. CP will open and may reserve part of its time for rebuttal if it so chooses. Board members may ask questions during the parties' allotted time. Absent a request from the Board, no additional written comments or other submissions may be filed in connection with this oral argument. Each party is encouraged to use its allotted time to call attention to the arguments and evidence it believes are particularly important. The arguments will be in the style of an appellate court. Parties should prepare a short statement of their argument and be prepared to answer questions from the Board. The purpose of oral argument is not to restate the written arguments previously presented or to present evidence, but to summarize and emphasize the key points of a party's case and provide an opportunity for parties to answer questions that the Board may have.

Instructions for Attendance at Oral Argument

All persons attending the oral argument should use NASA's visitors West Lobby entrance, located at 300 E Street SW (closest to the northeast corner of the intersection of 4th and E Streets). There will be no reserved seating, except for those scheduled to present arguments. The building will be open to the public at 7:00 a.m. There is no public parking in the building.

Laptops may be used in the Auditorium, and Wi-Fi will be available. Cellular telephone use is not permitted in the Auditorium.

The James E. Webb Memorial Auditorium complies with the Americans with Disabilities Act, and persons needing such accommodations should call (202) 245-0245, by the close of business on August 1, 2019.

Streaming will not be available to the Board for this oral argument.

For further information regarding the oral argument, contact Jonathon Binet at (202) 245-0368. Assistance for the hearing impaired is available through the Federal Relay Service at (800) 877-8339.

It is ordered:

1. Oral argument will be held on Tuesday, August 6, 2019, at 10:00 a.m., in NASA's James E. Webb Memorial Auditorium, located at 300 E Street SW, Washington, DC, as described above.

2. This decision is effective on the date of service.

Decided: July 30, 2019.
By the Board, Scott M. Zimmerman, Acting Director, Office of Proceedings.
Jeffrey Herzig,
Clearance Clerk.

[FR Doc. 2019-16605 Filed 8-2-19; 8:45 am]

BILLING CODE 4915-01-P